FEDERAL COMMUNICATIONS COMMISSION

47 CFR Part 73

[DA 01-486, MM Docket No. 00-188, RM-9969]

Digital Television Broadcast Service; New Orleans, LA

AGENCY: Federal Communications Commission.

ACTION: Final rule.

SUMMARY: The Commission, at the request of WWL-TV, Inc., licensee of station WWL-TV, substitutes DTV channel 36 for DTV channel 30 at New Orleans, Louisiana. See 65 FR 60163, October 10, 2000. DTV channel 36 can be allotted to New Orleans in compliance with the principle community coverage requirements of Section 73.625(a) at reference coordinates (29-54-23 N. and 90-02-23 W.) with a power of 1000, HAAT of 305 meters and with a DTV service population of 1712 thousand.

DATES: Effective April 12, 2001.

FOR FURTHER INFORMATION CONTACT: Pam Blumenthal, Mass Media Bureau, (202) 418-1600.

SUPPLEMENTARY INFORMATION: This is a synopsis of the Commission's Report and Order, MM Docket No. 00-188, adopted February 23, 2001, and released February 26, 2001. The full text of this Commission decision is available for inspection and copying during normal business hours in the FCC Reference Center 445 12th Street, S.W., Washington, DC. The complete text of this decision may also be purchased from the Commission's copy contractor, International Transcription Services, Inc., (202) 857-3800, 1231 20th Street, NW, Washington, DC 20036.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, and 336.

§ 73.622 [Amended]

2. Section 73.622(b), the Table of Digital Television Allotments under Louisiana, is amended by removing DTV channel 30 and adding DTV channel 36 at New Orleans.

Federal Communications Commission.
Barbara A. Kreisman,
Chief, Video Services Division, Mass Media Bureau.

[FR Doc. 01-4913 Filed 2-28-01; 8:45 am]

BILLING CODE 6712-01-P